DEPARTMENT OF ENERGY

Federal Energy Regulatory Commission

18 CFR Part 366

[Docket No. RM11-12-000]

Availability of E-Tag Information to Commission Staff

AGENCY: Federal Energy Regulatory Commission.

ACTION: Notice providing for reply comments.

SUMMARY: On April 21, 2011, the Commission issued a Notice of Proposed Rulemaking (76 FR 23516) proposing to require the Commission-certified Electric Reliability Organization to make available to Commission staff, on an ongoing basis, access to complete electronic tagging data used to schedule the transmission of electric power in transmission markets. The Commission is providing interested parties an opportunity to file reply comments on the Notice of Proposed Rulemaking. These reply comments may also address whether the Commission should require entities that create e-Tags or distribute them for approval to provide the Commission with viewing rights to the e-Tags.

DATES: Reply comments are due March 26, 2012.

ADDRESSES: You may submit reply comments, identified by Docket No. RM11-12-000, by any of the following methods:

• Agency Web Site: http://www.ferc.gov. Documents created electronically using word processing software should be filed in native applications or print-to-PDF format and not in a scanned format.

• Mail/Hand Delivery: Commenters unable to file comments electronically must mail or hand deliver an original of their comments to: Federal Energy Regulatory Commission, Office of the Secretary, 888 First Street NE., Washington, DC 20426.

FOR FURTHER INFORMATION CONTACT:

Maria Vouras (Technical Information), Office of Enforcement, Federal Energy Regulatory Commission, 888 First Street NE., Washington, DC 20426, Telephone: (202) 502-8062, Email: maria.vouras@ferc.gov.

Gary D. Cohen (Legal Information), Office of the General Counsel, Federal Energy Regulatory Commission, 888 First Street NE., Washington, DC 20426, Telephone: (202) 502-8321, Email: gary.cohen@ferc.gov.

SUPPLEMENTARY INFORMATION:

Notice Providing for Reply Comments

(February 23, 2012).

On April 21, 2011, the Commission issued a Notice of Proposed Rulemaking (NOPR) in the above-referenced proceeding ¹ proposing to require the Commission-certified Electric Reliability Organization to make available to Commission staff, on an ongoing basis, access to complete electronic tagging data used to schedule the transmission of electric power in wholesale markets. Initial comments on this NOPR were due on June 29, 2011. The Commission is providing interested parties with an opportunity to file reply comments on the NOPR. These reply comments may also address whether the Commission should require entities that create e-Tags or distribute them for approval to provide the Commission with viewing rights to the e-Tags.

¹ Availability of E-Tag Information to Commission Staff, 135 FERC ¶ 61,052 (2011).

By this notice, reply comments should be filed on or before March 26, 2012.

Dated: February 23, 2012.
Kimberly D. Bose,
Secretary.

[FR Doc. 2012-5002 Filed 3-1-12; 8:45 am]

BILLING CODE 6717-01-P